FEDERAL ELECTION COMMISSION

11 CFR Part 111

[Notice 2001-18]

Extension to Administrative Fines

AGENCY: Federal Election Commission.

ACTION: Final rule; revision of the sunset date.

SUMMARY: The Treasury and General Government Appropriations Act, 2002, amended the Treasury and General Government Appropriations Act, 2000, by extending the expiration date in which the Federal Election Commission (hereinafter “the Commission”) may assess civil money penalties for violations of the reporting requirements of section 434(a) of the Federal Election Campaign Act (hereinafter “the Act” or “FECA”).

DATES: Effective on December 31, 2001.

FOR FURTHER INFORMATION CONTACT: Ms. Rosemary C. Smith, Assistant General Counsel, or Ms. Mai T. Dinh, Attorney, 999 E Street, NW., Washington, DC 20463, (202) 694-1650 or (800) 424-9530.

SUPPLEMENTARY INFORMATION:

Explanation and Justification

Section 640 of the Treasury and General Government Appropriations Act, 2000, Pub. L. No. 106-58, 106th Cong., 113 Stat. 430, 476-77 (1999), amended § 309(a)(4) of the FECA, 2 U.S.C. 437g(a)(4), to provide for a modified enforcement process for violations of reporting requirements. Under § 437g(a)(4)(C) of the FECA, the Commission may assess a civil money penalty for violations of the reporting requirements of 2 U.S.C. 434(a). This authority, however, was to sunset on December 31, 2001. Pub. L. No. 106-58, 106th Cong., § 640(c). Recently, § 642 of the Treasury and General Government Appropriations Act, 2002, amended the Treasury and General Government Appropriations Act, 2000, by extending the sunset date to include all reports that cover activity between January 1, 2000, to December 31, 2003.

The Commission published final rules on May 19, 2000, to implement the amendment contained in the Treasury and General Government Appropriations Act, 2000. Section 111.30 of the regulations reflects the sunset provision of Pub. L. No. 106-58, 106th Cong., § 640(c). Therefore, the Commission is issuing this final rule to amend section 111.30 to extend the application of the administrative fine regulations, 11 CFR part 111, subpart B, to include all violations relating to reports that cover the period between January 1, 2000, to December 31, 2003.

The Commission is promulgating this final rule without notice or opportunity for comment because it falls under the “good cause” exemption of the Administrative Procedures Act, 5 U.S.C. 553(b)(B). The exemption allows agencies to dispense with notice and comment if the procedures are “impracticable, unnecessary, or contrary to public interest.” Id. This final rule fulfills the “good cause” exemption requirement because a notice and comment period is impracticable in that it would prevent this final rule from taking effect before the administrative fine regulations sunset under the current 11 CFR 111.30. See Administrative Procedure Act: Legislative History, S. Doc. No. 248 200 (1946) (“'Impracticable' means a situation in which the due and required execution of the agency functions would be unavoidably prevented by its undertaking public rule-making proceedings”). In addition, this final rule merely extends the applicability of the administrative fine regulations and does not change the substantive regulations themselves. Those regulations were already subject to notice and comment when they were proposed in March, 2000, 65 FR 16534, and adopted in May, 2000, 65 FR 31787. Thus, it is appropriate and necessary for the Commission to publish this final rule without providing a notice and comment period. The Commission anticipates, however, that any substantive changes that may be made to the administrative fine rules at a later date will be subject to notice and comment.

Certification of No Effect Pursuant to 5 U.S.C. 605(b) (Regulatory Flexibility Act)

The attached final rule will not have a significant economic impact on a substantial number of small entities. The basis for this certification is that this final rule merely extends the applicability of existing regulations for two more years. The existing regulations have already been certified as not having a significant economic impact on a substantial number of small entities. 65 FR 31793 (2000). Therefore, the extension of these existing regulations will not have a significant economic impact on a substantial number of small entities.

List of Subjects in 11 CFR Part 111

Administrative practice and procedures, Elections, Law enforcement.

For reasons set out in the preamble, subchapter A, Chapter I of Title 11 of the Code of Federal Regulations is amended as follows:

PART 111—COMPLIANCE PROCEDURES (2 U.S.C. 437g, 437d(a))

1. The authority for part 111 continues to read as follows:

Authority: 2 U.S.C. 437g, 437d(a), 438(a)(8).

2. 11 CFR 111.30 is revised to read as follows:

§ 111.30. When will subpart B apply?

Subpart B applies to violations of the reporting requirements of 2 U.S.C. 434(a) that relate to the reporting periods that begin on or after July 14, 2000, and end on or before December 31, 2003, committed by political committees and their treasurers.

Dated: November 26, 2001.
Danny L. McDonald,
Chairman, Federal Election Commission.

[FR Doc. 01-29678 Filed 11-29-01; 8:45 am]

BILLING CODE 6715-01-P